DEPARTMENT OF LABOR

Employment and Training Administration

[TA-W-74,610; TA-W-74,610A]

Ocwen Loan Servicing, LLC; Including Workers Whose Wages Were Reported Under HomEQ Servicing; North Highlands, CA; Ocwen Loan Servicing, LLC; Including Workers Whose Wages Were Reported Under HomEQ Servicing; Raleigh, NC; Amended Certification Regarding Eligibility To Apply for Worker Adjustment Assistance

In accordance with section 223 of the Trade Act of 1974, as amended (“Act”), 19 U.S.C. 2273, the Department of Labor issued a Certification of Eligibility to Apply for Worker Adjustment Assistance on November 23, 2010, applicable to workers of Ocwen Loan Servicing, LLC, including workers whose wages were reported under HomEQ Servicing, North Highland, California. The notice was published in the Federal Register on December 8, 2010 (75 FR 76488).

At the request of the company, the Department reviewed the certification for workers of the subject firm. The workers supply loan servicing.

The Raleigh, North Carolina location operated in conjunction with the North Highland, California location. Both locations were part of the overall servicing operation and served the same customer base of mortgage loans, and were affected by the subject firm shifting loan services to a foreign country.

Accordingly, the Department is amending the certification to include workers of the Raleigh, North Carolina location of Ocwen Loan Servicing, LLC, including workers whose wages were reported under HomEQ Servicing.

The amended notice applicable to TA-W-74,610 is hereby issued as follows:

All workers of Ocwen Loan Servicing, LLC, including workers whose wages were reported under HomEQ Servicing, North Highland, California (TA-W-74,610), and Ocwen Loan Servicing, LLC, including workers whose wages were reported under HomEQ Servicing, Raleigh, North Carolina (TA-W-74,610A), who became totally or partially separated from employment on or after September 7, 2009, through November 23, 2012, and all workers in the group threatened with total or partial separation from employment on the date of certification through two years from the date of certification, are eligible to apply for adjustment assistance under Chapter 2 of Title II of the Trade Act of 1974, as amended.

Signed in Washington, DC, this 17th day of December 2010.
Michael W. Jaffe,
Certifying Officer, Office of Trade Adjustment Assistance.

[FR Doc. 2010-33054 Filed 12-30-10; 8:45 am]

BILLING CODE 4510-FN-P